FEDERAL COMMUNICATIONS COMMISSION

Notice of Public Information Collection(s) being Reviewed by the Federal Communications Commission

January 18, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 25, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-XXXX.

Title: Third Report and Order in CC Docket No. 94-102, Revision of the Commission's Rules to Ensure Compatibility with Enhanced 911 Emergency Calling Systems.

Form No.: Not applicable.

Type of Review: New collection.

Respondents: Business or other for-profit and not-for-profit institutions.

Number of Respondents: 4,000 respondents. 8,000 annual responses.

Estimated Time Per Response: 1 hour.

Frequency of Response: On occasion reporting requirement.

Total Annual Burden: 8,000 hours.

Total Annual Cost: N/A.

Needs and Uses: The Third Report and Order in CC Docket 94-102 revises rules applicable to wireless carriers to permit the use of handset-based solutions, or hybrid solutions that require changes both to handsets and wireless networks, in providing call location information as part of Enhanced 911 (E911) services. The Commission adopted the Third R&O to encourage the deployment of the best location technology for each area being served, promote competition in E911 location technology, and speed implementation of E911. As part of these revised rules, the Third R&O adopted a requirement that, by October 1, 2000, all wireless carriers subject to the E911 rules report to the Commission their plans for implementing Phase II E911 features. This means the report should be filed one year in advance of the deadline for implementation (i.e., October 1, 2001). This report must include the technology they plan to use to provide caller location and whether this technology requires replacement or upgrades of any wireless handsets. If the carrier employs a handset-based approach, the carrier should also report its plans to provide location information to roamers under the “best practice” obligations imposed by the R&O. Carriers may revise their plans after the report is filed, however, carriers must file updates notifying the Commission of any changes to their files plans within 30 days of the adoption date of any such change. This paperwork burden is scheduled to go into effect on March 3, 2000.

This is a new collection imposed on carriers. The information submitted to the Commission will provide public service answering points (PSAPs), providers of location technology, investors, manufacturers, local exchange carriers, and the Commission with valuable information necessary for preparing for full Phase II E911 implementation. These advance reports will provide helpful, if not essential, information for coordinating carrier plans with those of manufacturers and PSAPs. Also, they will assist the Commission's efforts to monitor Phase II developments and to take necessary actions to maintain the Phase II implementation schedule.

Federal Communications Commission.
Magalie Roman Salas,
Secretary.

[FR Doc. 00-1798 Filed 1-25-00; 8:45 am]

BILLING CODE 6712-01-U